FEDERAL COMMUNICATIONS COMMISSION

47 CFR Part 73

[DA 00-1439; MM Docket No. 99-285; RM-9717, RM-9808]

Radio Broadcasting Services; Keeseville and Dannemora, NY

AGENCY: Federal Communications Commission.

ACTION: Final rule.

SUMMARY: The Commission, at the request of Dannemora Broadcasting and John Anthony Bulmer, allots Channel 250A to Dannemora, NY, as the community's first local aural service. See 64 FR 55223, October 12, 1999, and counterproposals thereto. This action also dismisses the request of John Anthony Bulmer to allot Channel 250A to Keeseville, NY. Channel 250A can be allotted to Dannemora in compliance with the Commission's minimum distance separation requirements, with respect to all domestic allotments, without the imposition of a site restriction, at coordinates 44-43-12 NL; 73-43-36 WL. Concurrence by the Canadian Government in the allotment, as a specially negotiated, short-spaced allotment, has been obtained. A filing window for Channel 250A at Dannemora will not be opened at this time. Instead, the issue of opening a filing window for this channel will be addressed by the Commission in a subsequent order.

DATES: Effective August 14, 2000.

FOR FURTHER INFORMATION CONTACT: Leslie K. Shapiro, Mass Media Bureau, (202) 418-2180.

SUPPLEMENTARY INFORMATION: This is a synopsis of the Commission's Report and Order, MM Docket No. 99-285, adopted June 21, 2000, and released June 30, 2000. The full text of this Commission decision is available for inspection and copying during normal business hours in the FCC Reference Center (Room 239), 445 12th Street, SW., Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—[AMENDED]

1. The authority citation for part 73 continues to read as follows:

Authority: 47 U.S.C. 154, 303, 334. 336.

§ 73.202 [Amended]

2. Section 73.202(b), the Table of FM Allotments under New York, is amended by adding Dannemora, Channel 250A.

Federal Communications Commission.
John A. Karousos,
Chief, Allocations Branch, Policy and Rules Division, Mass Media Bureau.

[FR Doc. 00-18294 Filed 7-19-00; 8:45 am]

BILLING CODE 6712-01-P